DEPARTMENT OF COMMERCE

National Oceanic and Atmospheric Administration

[I.D. 121504H]

Endangered Species; File No. 1486

AGENCY: National Marine Fisheries Service (NMFS), National Oceanic and Atmospheric Administration (NOAA), Commerce.

ACTION: Issuance of permit.

SUMMARY: Notice is hereby given that Harold M. Brundage, Environmental Research and Consulting, Inc., 112 Commons Court, Chadds Ford, Pennsylvania, 19317 has been issued a permit to take shortnose sturgeon (Acipenser brevirostrum) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and,

Northeast Region, NMFS, One Blackburn Drive, Gloucester, MA 01930-2298; phone (978)281-9200; fax (978)281-9371.

FOR FURTHER INFORMATION CONTACT: Jennifer Jefferies or Amy Sloan, (301)713-2289.

SUPPLEMENTARY INFORMATION: On May 27, 2004, notice was published in the Federal Register (69 FR 30287) that a request for a scientific research permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

Mr. Brundage is authorized to sample and track shortnose sturgeon in the Delaware River. Annually, up to 1750 adult and juvenile fish will be taken via gill nets, trammel nets and trawls; measured; weighed; PIT and Floy T-bar tagged; and the fish will be subsequently released. A subset of 100 fish annually will also be tissue sampled. Finally, a subset of 30 adult and 30 juvenile fish annually will also be tagged with internal ultrasonic tags and tracked. This permit is authorized for five years.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit (1) was applied for in good faith, (2) will not operate to the disadvantage of the endangered species which is the subject of this permit, and (3) is consistent with the purposes and policies set forth in section 2 of the ESA.

Dated: December 22, 2004.
Jennifer Skidmore,
Acting, Chief, Permits, Conservation and Education Division, Office of Protected Resources, National Marine Fisheries Service.

[FR Doc. 04-28539 Filed 12-28-04; 8:45 am]

BILLING CODE 3510-22-S